DEPARTMENT OF THE INTERIOR

National Park Service

Notice of Availability of Draft Director's Order (DO) Concerning National Park Service (NPS) Policies and Procedures Governing Its Dam Safety Program

AGENCY: National Park Service, Department of the Interior.

ACTION: Notice of availability.

SUMMARY: The NPS is proposing to adopt a DO setting forth the policies and procedures under which NPS will develop and implement the Dam Safety Program. The NPS maintains an inventory of NPS owned and non-NPS owned dams that range greatly in size, complexity and potential for failure. This DO summarizes the NPS's policies and procedures for meeting Federal requirements as codified at 33 U.S.C. 467 and as required per Departmental Manual 245 and 753 and NPS Management Policies 2006. The DO will help ensure that all necessary actions are taken to identify NPS owned and non-NPS owned dams which impact parks, and inspect, operate, maintain, and reduce risk for NPS owned dams.

DATES: Written comments will be accepted until August 28, 2009.

ADDRESSES: Draft DO #40 is available on the Internet at http://www.nps.gov/policy/DO-40draft.htm. Requests for copies of, and written comments on, the DO should be sent to Commander Nate Tatum, Dam Safety Program, Park Facilities Management Division, 1201 Eye (I) St., Washington, DC 20005, or to his Internet address: nate_tatum@partner.nps.gov.

FOR FURTHER INFORMATION CONTACT: Commander Nate Tatum, 202/513-7228.

SUPPLEMENTARY INFORMATION: When the NPS adopts documents containing new policy or procedural requirements that may affect parties outside the NPS, the documents are first made available for public review and comment before being adopted. The draft DO covers topics such as the authorities and guidance for the Dam Safety program; NPS's Dam Safety policy; and elements of the Dam Safety Program (e.g., action, management review, and hazard potential classification, dam safety inventory, inspection, emergency action plans, operation and maintenance of dams, corrective action, facility security plans, roles and responsibilities, etc).

Public Availability of Comments

Before including your address, phone number, e-mail address, or other personal identifying information in your comment, you should be aware that your entire comment—including your personal identifying information—may be made publicly available at any time. While you can ask us in your comment to withhold your personal identifying information from public review, we cannot guarantee that we will be able to do so.

Dated: July 23, 2009.
Timothy M. Harvey,
Chief, Park Facility Management Division.

[FR Doc. E9-18091 Filed 7-28-09; 8:45 am]

BILLING CODE 4312-52-P